DEPARTMENT OF TRANSPORTATION

Federal Aviation Administration

14 CFR Part 39

[Docket No. FAA-2020-0575; Product Identifier 2020-NM-096-AD; Amendment 39-19924; AD 2020-12-15]

RIN 2120-AA64

Airworthiness Directives; Bombardier, Inc., Airplanes

AGENCY: Federal Aviation Administration (FAA), DOT.

ACTION: Final rule; request for comments.

SUMMARY: The FAA is adopting a new airworthiness directive (AD) for certain Bombardier, Inc., Model BD-700-1A10 and BD-700-1A11 airplanes. This AD was prompted by a report that certain safety valves at the left- and right-hand sides of the cabin pressure control system were not installed correctly and that the trunnion nuts used to fasten the V-band clamp were over torqued. This AD requires a measurement of the trunnion nut torque of the V-band clamp, an inspection of the safety valve and airplane bulkhead flange area for any cracking and deformations, and corrective actions, if necessary. The FAA is issuing this AD to address the unsafe condition on these products.

DATES: This AD becomes effective July 24, 2020.

The Director of the Federal Register approved the incorporation by reference of certain publications listed in this AD as of July 24, 2020.

The FAA must receive comments on this AD by August 24, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact Bombardier, Inc., 200 Côte-Vertu Road West, Dorval, Québec H4S 2A3, Canada; North America toll-free telephone 1-866-538-1247 or direct-dial telephone 1-514-855-2999; email ac.yul@aero.bombardier.com; internet https://www.bombardier.com. You may view this referenced service information at the FAA, Airworthiness Products Section, Operational Safety Branch, 2200 South 216th St., Des Moines, WA. For information on the availability of this material at the FAA, call 206-231-3195. It is also available on the internet at https://www.regulations.gov by searching for and locating Docket No. FAA-2020-0575.

Examining the AD Docket

You may examine the AD docket on the internet at https://www.regulations.gov by searching for and locating Docket No. FAA-2020-0575; or in person at the Docket Operations office between 9 a.m. and 5 p.m., Monday through Friday, except Federal holidays. The AD docket contains this AD, any comments received, and other information. The street address for the Docket Operations office is listed above. Comments will be available in the AD docket shortly after receipt.

FOR FURTHER INFORMATION CONTACT: Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

SUPPLEMENTARY INFORMATION:

Discussion

Transport Canada Civil Aviation (TCCA), which is the aviation authority for Canada, has issued Canadian AD CF-2020-16, dated May 15, 2020 (referred to after this as the Mandatory Continuing Airworthiness Information, or “the MCAI”), to correct an unsafe condition for certain Bombardier, Inc., Model BD-700-1A10 and BD-700-1A11 airplanes. You may examine the MCAI on the internet at https://www.regulations.gov by searching for and locating Docket No. FAA-2020-0575.

This AD was prompted by a report that certain safety valves at the left- and right-hand sides of the cabin pressure control system were not installed correctly and that the trunnion nuts used to fasten the V-band clamp were over torqued. The FAA is issuing this AD to address incorrect installation of the safety valves and over-torqued trunnion nuts, which could cause damage to the safety valve flange and could result in pressure leakage or cabin depressurization at altitude. See the MCAI for additional background information.

Related Service Information Under 1 CFR Part 51

Bombardier has issued Service Bulletin 700-21-5009, Revision 02, dated March 31, 2020; and Service Bulletin 700-21-6009, Revision 02, dated March 31, 2020. This service information describes procedures for a measurement of the trunnion nut torque of the V-band clamp at the left- and right-hand sides of the cabin pressure control system safety valves, a general visual or magnification inspection of the safety valve and airplane bulkhead flange area for any cracking and deformation, and corrective actions. The corrective actions include replacement of the safety valve and repair of cracks on the airplane bulkhead flange. These documents are distinct since they apply to different airplane models.

This service information is reasonably available because the interested parties have access to it through their normal course of business or by the means identified in the ADDRESSES section.

FAA's Determination

This product has been approved by the aviation authority of another country, and is approved for operation in the United States. Pursuant to our bilateral agreement with the State of Design Authority, the FAA has been notified of the unsafe condition described in the MCAI and service information referenced above. The FAA is issuing this AD because the FAA evaluated all pertinent information and determined the unsafe condition exists and is likely to exist or develop on other products of the same type design.

Requirements of This AD

This AD requires accomplishing the actions specified in the service information described previously.

Explanation of Compliance Time

In most ADs, we adopt a compliance time relative to the AD's effective date. In this case, however, TCCA has already issued regulations that require operators to measure the trunnion nut torque of the V-band clamp to address the identified unsafe condition by a certain date. Per the safety assessment of the design approval holder and TCCA, the initial measurement of the trunnion nut torque of the V-band clamp must be completed before August 31, 2020. In addition, TCCA also requires operators to replace certain safety valves by that date. To provide for coordinated implementation of TCCA's regulations and this AD, we are using the same compliance date in this AD.

Differences Between This AD and the MCAI

Canadian AD CF-2020-16, dated May 15, 2020, requires an inspection of the bulkhead flange but does not provide a corrective action. This AD includes a corrective action as specified in paragraphs (h)(1)(iii) and (h)(2)(B)(iii) of this AD.

FAA's Justification and Determination of the Effective Date

An unsafe condition exists that requires the immediate adoption of this AD without providing an opportunity for public comments prior to adoption. The FAA has found that the risk to the flying public justifies waiving notice and comment prior to adoption of this rule because incorrectly installed safety valves and over-torqued trunnion nuts could cause damage to the safety valve flange and could result in pressure leakage or cabin depressurization at altitude. Therefore, the FAA finds good cause that notice and opportunity for prior public comment are impracticable. In addition, for the reasons stated above, the FAA finds that good cause exists for making this amendment effective in less than 30 days.

Comments Invited

This AD is a final rule that involves requirements affecting flight safety, and the FAA did not precede it by notice and opportunity for public comment. The FAA invites you to send any written relevant data, views, or arguments about this AD. Send your comments to an address listed under the ADDRESSES section. Include “Docket No. FAA-2020-0575; Product Identifier 2020-NM-096-AD” at the beginning of your comments. The FAA specifically invites comments on the overall regulatory, economic, environmental, and energy aspects of this AD. The FAA will consider all comments received by the closing date and may amend this AD based on those comments.

The FAA will post all comments received, without change, to https://www.regulations.gov, including any personal information you provide. The FAA will also post a report summarizing each substantive verbal contact received about this AD.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 17 airplanes of U.S. registry. The FAA estimates the following costs to comply with this AD:

Estimated Costs for Required Actions
Labor cost | Parts cost | Cost per product | Cost on U.S. operators
2 work-hours × $85 per hour = $170 | $0 | $170 | $2,890

The FAA estimates the following costs to do any necessary on-condition actions that would be required based on the results of any required actions. The FAA has no way of determining the number of aircraft that might need these on-condition actions:

Estimated Costs of On-Condition Actions *
Labor cost | Parts cost | Cost per product
3 work-hours × $85 per hour = $255 | $5,070 | $5,325
* The table does not include costs for the corrective action for the bulkhead flange. The FAA has received no definitive data for the cost of this corrective action.

According to the manufacturer, some or all of the parts costs of this AD may be covered under warranty, thereby reducing the cost impact on affected individuals. The FAA does not control warranty coverage for affected individuals. As a result, the FAA has included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-12-15 Bombardier, Inc.: Amendment 39-19924; Docket No. FAA-2020-0575; Product Identifier 2020-NM-096-AD.

(a) Effective Date

This AD becomes effective July 24, 2020.

(b) Affected ADs

None.

(c) Applicability

This AD applies to Bombardier, Inc., Model BD-700-1A10 and BD-700-1A11 airplanes, certificated in any category, serial numbers 9810 through 9838 inclusive, 9840 through 9842 inclusive, 9844 through 9846 inclusive, 9854 and 9855.

(d) Subject

Air Transport Association (ATA) of America Code 36, Pneumatic.

(e) Reason

This AD was prompted by a report that certain safety valves at the left- and right-hand sides of the cabin pressure control system were not installed correctly and that the trunnion nuts used to fasten the V-band clamp were over torqued. The FAA is issuing this AD to address incorrect installation of the safety valves and over-torqued trunnion nuts, which could cause damage to the safety valve flange and could result in pressure leakage or cabin depressurization at altitude.

(f) Compliance

Comply with this AD within the compliance times specified, unless already done.

(g) Measurement

Before August 31, 2020, measure the trunnion nut torque of the V-band clamps at the left-and right-hand sides of the cabin pressure control system safety valves, in accordance with paragraphs 2.B.(1) and 2.B.(2) of the Accomplishment Instructions of the applicable service information specified in figure 1 to paragraphs (g) and (h) of this AD.

(h) Inspection and Corrective Actions

Based on the torque measurement required by paragraph (g) of this AD, do the applicable actions specified in paragraph (h)(1) or (2) of this AD.

(1) For safety valves with a V-band clamp trunnion nut torque of less than 80 lbf-in: Before further flight, do a general visual inspection for any cracking and deformation, in accordance with paragraph 2.B.(3)(a) of the Accomplishment Instructions of the applicable service information specified in figure 1 to paragraphs (g) and (h) of this AD.

(i) If no cracking and deformation is found on the safety valve and airplane bulkhead flange: Before further flight, re-torque the V-band clamp trunnion nut, in accordance with paragraph 2.B.(3)(b) of the Accomplishment Instructions of the applicable service information specified in figure 1 to paragraphs (g) and (h) of this AD.

(ii) If any cracking or deformation is found on the safety valve: Before further flight, replace the safety valve, in accordance with paragraph 2.C. of the Accomplishment Instructions of the applicable service information specified in figure 1 to paragraphs (g) and (h) of this AD.

(iii) If any cracking or deformation is found on the airplane bulkhead flange: Before further flight, repair using a method approved by the Manager, New York ACO Branch, FAA; or Transport Canada Civil Aviation (TCCA); or Bombardier, Inc.'s TCCA Design Approval Organization (DAO). If approved by the DAO, the approval must include the DAO-authorized signature.

(2) For safety valves with a V-band clamp trunnion nut torque of 80 lbf-in or higher: Before further flight, do a magnification inspection for any cracking and deformation of the safety valve and airplane bulkhead flange area, in accordance with paragraphs 2.B.(4)(a) and 2.B.(4)(b) of the Accomplishment Instructions of the applicable service information specified in figure 1 to paragraphs (g) and (h) of this AD.

(i) If no cracking and deformation is found on the safety valve and airplane bulkhead flange, do the actions specified in paragraphs (h)(2)(i)(A) and (B) of this AD.

(A) Before further flight, re-install the safety valve and torque the V-band clamp trunnion nut, in accordance with paragraph 2.B.(4)(c) of the Accomplishment Instructions of the applicable service information specified in figure 1 to paragraphs (g) and (h) of this AD.

(B) Before August 31, 2021, replace the safety valve, in accordance with paragraph 2.C. of the Accomplishment Instructions of the applicable service information specified in figure 1 to paragraphs (g) and (h) of this AD.

(ii) If any cracking or deformation is found on the safety valve: Before further flight, replace the safety valve, in accordance with paragraph 2.C. of the Accomplishment Instructions of the applicable service information specified in figure 1 to paragraphs (g) and (h) of this AD.

(iii) If any cracking or deformation is found on the airplane bulkhead flange: Before further flight, repair using a method approved by the Manager, New York ACO Branch, FAA; or TCCA; or Bombardier, Inc.'s TCCA DAO. If approved by the DAO, the approval must include the DAO-authorized signature.

(i) Credit for Previous Actions

This paragraph provides credit for actions required by paragraphs (g) and (h) of this AD, if those actions were performed before the effective date of this AD using the following service information.

(1) Bombardier Service Bulletin 700-21-5009, dated January 23, 2020; and Bombardier Service Bulletin 700-21-5009, Revision 01, dated March 19, 2020.

(2) Bombardier Service Bulletin 700-21-6009, dated January 23, 2020; and Bombardier Service Bulletin 700-21-6009, Revision 01, dated March 19, 2020.

(j) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain instructions from a manufacturer, the instructions must be accomplished using a method approved by the Manager, New York ACO Branch, FAA; or TCCA; or Bombardier, Inc.'s TCCA DAO. If approved by the DAO, the approval must include the DAO-authorized signature.

(k) Related Information

(1) Refer to Mandatory Continuing Airworthiness Information (MCAI) Canadian AD CF-2020-16, dated May 15, 2020, for related information. This MCAI may be found in the AD docket on the internet at https://www.regulations.gov by searching for and locating Docket No. FAA-2020-0575.

(2) For more information about this AD, contact Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 700-21-5009, Revision 02, dated March 31, 2020.

(ii) Bombardier Service Bulletin 700-21-6009, Revision 02, dated March 31, 2020.

(3) For service information identified in this AD, contact Bombardier, Inc., 200 Côte-Vertu Road West, Dorval, Québec H4S 2A3, Canada; North America toll-free telephone 1-866-538-1247 or direct-dial telephone 1-514-855-2999; email ac.yul@aero.bombardier.com; internet https://www.bombardier.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on June 18, 2020.
Gaetano A. Sciortino,
Deputy Director for Strategic Initiatives, Compliance & Airworthiness Division, Aircraft Certification Service.

[FR Doc. 2020-14779 Filed 7-8-20; 8:45 am]

BILLING CODE 4910-13-P